DEPARTMENT OF COMMERCE

International Trade Administration

[A-570-868]

Folding Metal Tables and Chairs From the People's Republic of China: Notice of Extension of Time Limit for the Preliminary Results of the New Shipper Review

AGENCY: Import Administration, International Trade Administration, Department of Commerce

DATES: Effective Date: January 6, 2011.

FOR FURTHER INFORMATION CONTACT: Lilit Astvatsatrian or Charles Riggle, AD/CVD Operations, Office 8, Import Administration, International Trade Administration, U.S. Department of Commerce, 14th Street and Constitution Avenue, NW., Washington, DC 20230; telephone: (202) 482-6412 or (202) 482-0650, respectively.

SUPPLEMENTARY INFORMATION:

Background

On July 29, 2010, the Department of Commerce (“the Department”) published the initiation of the new shipper review of the antidumping duty order on folding metal tables and chairs from the People's Republic of China (“PRC”). See Folding Metal Tables and Chairs: Initiation of New Shipper Review, 75 FR 44767 (July 29, 2010). This review covers the period June 1, 2009, through May 31, 2010. The preliminary results of review are currently due no later than January 19, 2011.

Extension of Time Limit for Preliminary Results of Review

Section 751(a)(2)(B)(iv) of the Tariff Act of 1930, as amended (“the Act”), and 19 CFR 351.214(i)(l) require the Department to issue the preliminary results of a new shipper review within 180 days after the date on which the new shipper review was initiated. The Department may, however, extend the 180-day period for completion of the preliminary results of a new shipper review to 300 days if it determines that the case is extraordinarily complicated. See section 751(a)(2)(B)(iv) of the Act and 19 CFR 351.214(i)(2).

The Department finds that this case is extraordinarily complicated. Specifically, this case is extraordinarily complicated due to issues involving the universe of sales under review, affiliation, and surrogate country selection and valuation of factors of production. Therefore, in accordance with section 751(a)(2)(B)(iv) of the Act, the Department is extending the time period for completion of the preliminary results of this review, which is currently due on January 19, 2011, by 60 days. Therefore, the preliminary results are now due no later than March 20, 2011. However, because March 20, 2011, falls on a weekend, the actual due date will be the first business day following the weekend, i.e., March 21, 2011. The final results continue to be due 90 days after the publication of the preliminary results.

This notice is published in accordance with sections 751(a)(2)(B)(iv) and 777(i) of the Act.

Dated: December 28, 2010.
Gary Taverman,
Acting Deputy Assistant Secretary for Antidumping and Countervailing Duty Operations.

[FR Doc. 2010-33229 Filed 1-5-11; 8:45 am]

BILLING CODE 3510-DS-M